DEPARTMENT OF THE TREASURY

Submission for OMB Review; Comment Request

September 12, 2013.

The Department of the Treasury will submit the following information collection requests to the Office of Management and Budget (OMB) for review and clearance in accordance with the Paperwork Reduction Act of 1995, Public Law 104-13, on or after the date of publication of this notice.

DATES: Comments should be received on or before October 18, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-1068.

Type of Review: Extension without change of a currently approved collection.

Title: INTL-362-88 (T.D. 8618) Definition of a Controlled Foreign Corporation, Foreign Base Company Income, and Foreign Personal Holding Company Income of a Controlled Foreign Corporation.

Abstract: The election and recordkeeping requirements are necessary to exclude certain high-taxed or active business income from subpart F income or to include certain income in the appropriate category of subpart F income. The recordkeeping and election procedures allow the U.S. shareholders and the IRS to know the amount of the controlled foreign corporation's subpart F income.

Affected Public: Private Sector: Businesses and other for-profits.

Estimated Annual Burden Hours: 50,417.

OMB Number: 1545-1296.

Type of Review: Extension without change of a currently approved collection.

Title: PS-27-91 (TD 8442) Procedural Rules for Excise Taxes Currently Reportable on Form 720, PS-8-95 (TD 8685) Deposits of Excise Taxes.

Abstract: Internal Revenue Code section 6302(c) authorizes the use of Government depositaries for the receipt of taxes imposed under the internal revenue laws. These regulations provide reporting and recordkeeping requirements related to return, payments, and deposits of tax for excise taxes currently reportable on Form 720.

Affected Public: Private Sector: Businesses and other for-profits.

Estimated Annual Burden Hours: 242,350.

OMB Number: 1545-1574.

Type of Review: Extension without change of a currently approved collection.

Title: Tuition Payments Statement.

Form: 1098-T.

Abstract: Section 6050S of the Internal Revenue Code requires eligible education institutions to report certain information regarding tuition payments to the IRS and to students. Form 1098-T has been developed to meet this requirement.

Affected Public: Private Sector: Businesses and other for-profits; Not-for-profit institutions.

Estimated Annual Burden Hours: 4,848,090.

OMB Number: 1545-1721.

Type of Review: Extension without change of a currently approved collection.

Title: Taxable REIT Subsidiary Election.

Form: 8875.

Abstract: A corporation and a REIT use Form 8875 to jointly elect to have the corporation treated as a taxable REIT subsidiary as provided in 26 U.S.C. section 856(l).

Affected Public: Private Sector: Businesses and other for-profits.

Estimated Annual Burden Hours: 9,980.

OMB Number: 1545-1862.

Type of Review: Extension without change of a currently approved collection.

Title: Information Regarding Request for Refund of Social Security Tax Erroneously Withheld on Wages Received by a Nonresident Alien on an F, J, or M Type Visa.

Form: 8316.

Abstract: Certain foreign students and other nonresident visitors are exempt from FICA tax for services performed as specified in the Immigration and Naturalization Act. Applicants for refund of this FICA tax withheld by their employer must complete Form 8316 to verify that they are entitled to a refund of the FICA, that the employer has not paid back any part of the tax withheld and that the taxpayer has attempted to secure a refund from his/her employer.

Affected Public: Individuals or Households.

Estimated Annual Burden Hours: 5,500.

OMB Number: 1545-1873.

Type of Review: Extension without change of a currently approved collection.

Title: Revenue Procedure 2004-15, Waivers of Minimum Funding Standards.

Abstract: This revenue procedure describes the process for obtaining a waiver from the minimum funding standards set forth in section 412 of the Code.

Affected Public: Private Sector; Businesses or other for-profits.

Estimated Annual Burden Hours: 4,730.

OMB Number: 1545-2041.

Type of Review: Extension without change of a currently approved collection.

Title: Expenses Paid by Certain Whaling Captains in Support of Native Alaskan Subsistence Whaling.

Abstract: This document provides guidelines under § 170(n) for substantiating certain expenses of carrying out sanctioned whaling activities.

Affected Public: Individuals or Households.

Estimated Annual Burden Hours: 48.

OMB Number: 1545-2043.

Type of Review: Extension without change of a currently approved collection.

Title: IRS e-file Signature Authorization for Form 1065-B.

Form: 8879-B.

Abstract: Form 8879-B is used when a personal identification number (PIN) is used to electronically sign the electronic tax return, and, if applicable, consent to an electronic funds withdrawal.

Affected Public: Private Sector; Businesses or other for-profits.

Estimated Annual Burden Hours: 273.

OMB Number: 1545-2044.

Type of Review: Extension without change of a currently approved collection.

Title: Rev. Proc. 2006-54, Procedures for Requesting Competent Authority Assistance Under Tax Treaties.

Abstract: Taxpayers who believe that the actions of the United States, a treaty country, or both, result or will result in taxation that is contrary to the provisions of an applicable tax treaty are required to submit the requested information in order to receive assistance from the IRS official acting as the U.S. competent authority. The information is used to assist the taxpayer in reaching a mutual agreement with the IRS and the appropriate foreign competent authority.

Affected Public: Individuals or Households.

Estimated Annual Burden Hours: 9,000.

OMB Number: 1545-2047.

Type of Review: Extension without change of a currently approved collection.

Title: Rev. Proc. 2007-21—Regarding Secs. 6707 or 6707A; Rescission Request Procedures.

Abstract: This revenue procedure provides guidance to persons who are assessed a penalty under section 6707A or 6707 of the Internal Revenue Code, and who may request rescission of those penalties from the Commissioner.

Affected Public: Individuals or Households.

Estimated Annual Burden Hours: 430.

OMB Number: 1545-2049.

Type of Review: Extension without change of a currently approved collection.

Title: Notice 2006-107—Diversification Requirements for Qualified Defined Contribution Plans Holding Publicly Traded Employer Securities.

Abstract: This notice contains model forms that may be used by employers to notify plan participants of their diversification rights under sections 901 and 507 of the Pension Protection Act of 2006.

Affected Public: Private Sector; Businesses or other for-profits.

Estimated Annual Burden Hours: 7,725.

Dawn D. Wolfgang,
Treasury PRA Clearance Officer.

[FR Doc. 2013-22647 Filed 9-17-13; 8:45 am]

BILLING CODE 4830-01-P